CONSUMER PRODUCT SAFETY COMMISSION

Submission for OMB Review; Comment Request—Flammability Standards for Carpets and Rugs

AGENCY: Consumer Product Safety Commission.

ACTION: Notice.

SUMMARY: In the Federal Register of September 16, 2002 (67 FR 58358), the Consumer Product Safety Commission published a notice in accordance with provisions of the Paperwork Reduction Act of 1995 (44 U.S.C. chapter 35), to announce the agency's intention to seek extension of approval of collections of information in regulations implementing two flammability standards for carpets and rugs. The regulations are codified at 16 CFR parts 1630 and 1631, and prescribe requirements for testing and recordkeeping by persons and firms issuing guaranties of products subject to the Standard for the Surface Flammability of Carpets and Rugs and the Standard for the Surface Flammability of Small Carpets and Rugs.

Two comments were received in response to that notice. The Carpet and Rug Institute (“CRI”) commented that the washing requirement in § 1630.4(ii) is not an acceptable method for cleaning carpet materials and suggested that the staff consider the AATCC Test Method 171-2000, “Carpets: Cleaning of; Hot Water Extraction Method,” as a more appropriate method for consideration. CRI further commented that the testing and recordkeeping is not a significant burden for the industry when measured against the benefits of consumer protection and product liability.

Shaw Industries, Inc. suggested that § 1630.4(ii) be changed to reference the same AATCC test method and also commented on the Eli Lily Pharmaceuticals, Inc. (“Lily”) discontinuation of methenamine tablets specified as the source of ignition. The CPSC staff is aware that Lily no longer produces the methenamine tablet specified as the ignition source in the standards. The staff is in the process of evaluating methenamine pills from several different manufacturers and developing draft technical amendments to the standards that will provide performance requirements for the ignition source, rather than specifying a manufacturer. The staff will also consider other relevant issues, such as laundering procedures, as appropriate during the amendment process.

After considering these comments, the staff believes it should nevertheless seek approval of the collection of information. Therefore, by publication of this notice, the Commission announces that it has submitted to the Office of Management and Budget a request for extension of approval of those collections of information without change.

Additional Information About the Request for Reinstatement of Approval of Collections of Information

Agency address: Consumer Product Safety Commission, Washington, DC 20207.

Title of information collection: Standard for the Surface Flammability of Carpets and Rugs, 16 CFR Part 1630; Standard for the Surface Flammability of Small Carpets and Rugs, 16 CFR Part 1631.

Type of request: Extension of approval without change.

General description of respondents: Manufacturers and importers of products subject to the flammability standards for carpets and rugs.

Estimated number of respondents: 120.

Estimated average number of hours per respondent: 500 per year.

Estimated number of hours for all respondents: 60,000 per year.

Estimated cost of collection for all respondents: $1,584,000.

Comments: Comments on this request for extension of approval of information collection requirements should be submitted by January 6, 2003, to (1) the Office of Information and Regulatory Affairs, Attn: OMB Desk Officer for CPSC, Office of Management and Budget, Washington DC 20503; telephone: (202) 395-7340, and (2) the Office of the Secretary, Consumer Product Safety Commission, Washington, DC 20207. Written comments may also be sent to the Office of the Secretary by facsimile at (301) 504-0127 or by e-mail at cpsc-os@cpsc.gov.

Copies of this request for extension of the information collection requirements and supporting documentation are available from Linda Glatz, management and program analyst, Office of Planning and Evaluation, Consumer Product Safety Commission, Washington, DC 20207; telephone: (301) 504-0416, ext. 2226.

Dated: November 29, 2002.
Todd A. Stevenson,
Secretary, Consumer Product Safety Commission.

[FR Doc. 02-30866 Filed 12-5-02; 8:45 am]

BILLING CODE 6355-01-P